DEPARTMENT OF THE INTERIOR

National Park Service

[NPS-NER-GETT-15054; PPMPSPD1Z.YM0000] [PPNEGETTS1]

Gettysburg National Military Park Advisory Commission Meeting

AGENCY: National Park Service, Interior.

ACTION: Notice of Meeting.

SUMMARY: This notice announces the April 3, 2014, meeting of the Gettysburg National Military Park Advisory Commission.

DATES: The meeting is scheduled for April 3, 2014.

Time: The meeting will begin at 7:00 p.m. and end by 9:00 p.m.

ADDRESSES: The meeting will be held at the Gettysburg National Military Park Museum/Visitor Center Ford Education Center, 1195 Baltimore Pike, Gettysburg, Pennsylvania 17325.

FOR FURTHER INFORMATION CONTACT: Jo Sanders, Secretary to the Superintendent, Gettysburg National Military Park, 1195 Baltimore Pike, Suite 100, Gettysburg, PA 17325, by telephone (717) 338-4403.

SUPPLEMENTARY INFORMATION: The meeting is open to the public. The meeting will include presentations on the Gettysburg National Military Park Operational Update. Any member of the public may file with the Commission a written statement concerning agenda items. Written statements should be sent to: the Gettysburg National Military Park Advisory Commission, 1195 Baltimore Pike, Suite 100, Gettysburg, Pennsylvania 17325. Before including your address, telephone number, email address, or other personal information in your comments, you should be aware that your entire comment—including your personal identifying information—may be made publicly available at any time. While you may ask us in your comment to withhold your personal identifying information from public view, we cannot guarantee that we will be able to do so.

Dated: March 6, 2014.
Alma Ripps,
Chief, Office of Policy.

[FR Doc. 2014-05329 Filed 3-11-14; 8:45 am]

BILLING CODE 4310-JD-P